DEPARTMENT OF DEFENSE

Department of the Air Force

HQ USAF Scientific Advisory Board

AGENCY: Department of the Air Force, DoD.

ACTION: Notice of meeting.

SUMMARY: Pursuant to Public Law 92-463, notice is hereby given of the forthcoming Fall Board Meeting of the Scientific Advisory Board. The purpose of the meeting is to allow the SAB leadership to meet with the Chief and Secretary of the Air Force, the Military Director of the SAB, and key members of the scientific and technical communities. Because classified and contractor-proprietary information will be discussed, this meeting will be closed to the public.

DATES: October 9-10 2002.

ADDRESSES: 1560 Wilson Boulevard, Arlington, VA 22209.

FOR FURTHER INFORMATION CONTACT: Colonel Charles Bowker, Air Force Scientific Advisory Board Secretariat, 1180 Air Force Pentagon, Rm 5D982, Washington DC 20330-1180, (703) 697-4811.

Pamela D. Fitzgerald,
Air Force Federal Register Liaison Officer.

[FR Doc. 02-23304 Filed 9-12-02; 8:45 am]

BILLING CODE 5001-05-P